DEPARTMENT OF ENERGY

Federal Energy Regulatory Commission

[Docket No. CP00-51-001]

East Tennessee Natural Gas Company; Notice of Amendment

May 19, 2000.

Take notice that on May 10, 2000, East Tennessee Natural Gas Company (East Tennessee), 1001 Louisiana, Houston, Texas 77002, filed with the Commission in Docket NO. CP00-51-001 an amendment to the pending application filed on December 17, 1999, in Docket No. CP00-51-000, pursuant to Section 7(c) of the Natural Gas Act (NGA), to reflect change in the locations of meter stations, main line valves, and manifolds for which certificate authorization is sought, all as more fully set forth in the amendment which is open to the public for inspection.

By the pending application in Docket No. CP00-51-000, East Tennessee proposes to construct, install, and operate: (1) 15.16 miles of 12-inch diameter pipeline looping in Washington, Smyth, and Wythe Counties, Virginia; (2) three meter stations in McGinn, Greene, and Roane Counties, Tennessee, and a modficiation to an existing meter station in Morgan County, Tennessee; (3) approximately 0.62 miles of 22-inch diameter replacement pipe on East Tennessee's 3100 Line in Smith and Overton Counties, Tennessee. Finally, East Tennessee's 3100 Line: and (4) approximately 450 feet of 10-inch and 12-inch diameter replacement pipeline, in addition to two mainline valves on East Tennessee's 3200 Line at the Tennessee River Crossing. Additionally, East Tennessee seeks certain other authorizations, including authorization to up rate four compressor units located at Station 3101 in Robertson County, Tennessee, and Station 3210 in Marion County, Tennessee, and authorization to hydrostatically test to increase the Maximum Allowable Operating Pressure (MAOP) of 26.42 miles of pipe on East Tennessee requests that the Commission authorize the abandonment of approximately 0.62 miles of pipe being replaced align East Tennessee's 3100 Line plus 250 feet of pipe, two mainline valve assemblies and miscellaneous fittings and appurtenances being replaced along the 3200 Line by the above-referenced replacement pipe. East Tennessee submits that these activities are necessary to provide additional firm transportation service to eight customers on the part of East Tennessee's pipeline system located in eastern Tennessee and southwestern Virginia (Rocky Top Expansion Project).

In the subject amendment, East Tennessee seeks to modify its original request for certificate authority by requesting authorization to, itner alia, change the locations of the proposed Lenior City and Etowah meter stations. East Tennessee now proposes to construct, install, and operate the Lenior City meter station at Mile Post 3.99, instead of at Mile Post 4.35 south of Main Line Valve 3112-1 as originally proposed, on its 3100 Line in Roane County, Tennessee. East Tennessee also proposes to construct, install, and operate the Etowah meter station at mile Post 3.59 south of Main Line Valve 3217-1 as originally proposed, but on the other side of the road, on its 3200 Line in McMinn County, Tennessee.

East Tennessee also proposes to modify its original proposal with various changes in work space requirements and construction rights-of-way to meet the Commission's template. East Tennessee's other proposed modifications include the following:

(1) Additional temporay work spaces at Mainline Valve Section 3313, Virginia, and Mainline Valve Section 3105, Tennessee;

(2) Seven new hydrostatic testing manifold location in the vicinity of Mainline Valve Section 3105, Tennessee, and six new hydrostatic testing manifold locations in the vicinity of Mainline Valve Section 3107, Tennessee;

(3) Four new main line valves, replacement of main line valves, and one new relief valve in the vicinity of Mainline Valve Section 3105, Tennessee;

(4) One new relief valve in vicinity of Mainline Valve Section 3107, Tennessee;

(5) New access road in vicinity of Mainline Valve Section 3313, Virginia;

(6) Five temporary access roads in vicinity of Mainline Valve Section 3105, Tennessee, and four temporary access roads in vicinity of Mainline Valve Section 3107, Virginia_eight of these temporary access roads would be constructed within existing permanent rights-of-way:

(7) One temporary access road in vicinity of Tennessee River Crossing, Mainline valve Section 3213-1A1/1A2, Tennessee_this temporary access road would be constructed within an existing permanent right-of-way and existing road.

Any person desiring to be heard or to make any protest with reference to said application should on or before June 9, 2000, file with the Federal Energy Regulatory Commission, 888 First Street, NE, Washington, DC 20426, a motion to intervene or a protest in accordance with the requirements of the Commission's Rules of Practice and Procedure (18 CFR 385.214 or 385.211) and the Regulations under the NGA (18 CFR 157.10) All protests filed with the Commission will be considered by it in determining the appropriate action to be taken but will not serve to make the protestants parties to the proceeding. Any person wishing to become a party to a proceeding or to participate as a party in any hearing therein must file a motion to intervene in accordance with the Commission's Rules.

Any questions regarding the application should be directed to Susan T. Halbach, Senior Counsel, P.O. Box 2511, Houston, Texas 77252, phone number (713) 420-5751.

A person obtaining intervenor status will be place on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission. A person does not have to intervene, however, in order to have comments considered. A person, instead, may submit two copies of such comments to the Secretary of the Commission. Commenters will be placed on the Commission's environmental mailing list, will receive copies of environmental documents, and will be able to participate in meetings associated with the Commission's environmental review process. Commenters will not be required to serve copies of filed document son all other parties. However, commenters will not receive copies of all documents filed by other parties or issued by the Commission, and will not have the right to seek rehearing or appeal the Commission's final order to a Federal court.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure herein provided for, unless otherwise advised, it will be unnecessary for East Tennessee to appear or be represented at the hearing.

Linwood A. Watson, Jr.,
Acting Secretary.

[FR Doc. 00-13105 Filed 5-24-00; 8:45 am]

BILLING CODE 6717-01-M